DEPARTMENT OF ENERGY

Bonneville Power Administration

Kangley-Echo Lake Transmission Line Project

AGENCY: Bonneville Power Administration (BPA), Department of Energy (DOE).

ACTION: Notice of intent to prepare an Environmental impact Statement (EIS) and notice of floodplain and wetlands involvement.

SUMMARY: This notice announces BPA's intention to prepare an EIS on the construction, operation, and maintenance of a 10-mile-long 500-kilovolt (kv) transmission line in King County, State of Washington. In accordance with DOE regulations for compliance with floodplain and wetlands environmental review requirements, BPA will prepare a floodplain and wetlands assessment and will perform this proposed action in a manner so as to avoid or minimize potential harm to or within the affected floodplain and wetlands. The assessment and a floodplain statement of findings will be included in the EIS being prepared for the proposed project in accordance with the National Environmental Policy Act.

DATES: BPA has established a 30-day scoping period. Written comments are due to the address below no later than April 27, 2000.

Comments may also be made at an EIS scoping meeting to be held on Tuesday, April 11, 2000.

ADDRESSES: BPA invites comments and suggestions on the proposed scope of the Draft EIS. Send comment letters and requests to be placed on the project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov.

The EIS scoping meeting will be held on April 11, 2000, from 3:00 p.m. to 8:00 p.m. at the Mt. Si Senior Center, 411 Main Avenue South, North Bend, Washington. At the informal meeting, we will have several members of the project team available to answer your questions and accept oral and written comments.

FOR FURTHER INFORMATION, CONTACT: Lou Driessen, Project Manager, Bonneville Power Administration—TNP-3, P.O. Box 3621, Portland, Oregon, 97208-3621; phone number 503-230-5525; or e-mail lcdriessen@bpa.gov. You may also contact Gene Lynard, Environmental Project Manager, Bonneville Power Administration—KECN-4, P.O. Box 3621, Portland, Oregon, 97208-3621; phone number 503-230-3790; fax number 503-230-5699; or email: gplynard@bpa.gov.

SUPPLEMENTARY INFORMATION: This notice announces BPA's intention to prepare an EIS on the construction, operation, and maintenance of a 10-mile-long 500-kv transmission line. This action may involve floodplain and wetlands located in King County, State of Washington. The action is necessary to maintain reliable load service during severe winter conditions in the growing northwest Washington area. The intended effect on the public is to maintain a reliable high-voltage transmission system and to avoid significant load loss in the south Seattle area. When completed, the Draft EIS will be circulated for review and comment, and BPA will hold a public comment meeting for the Draft EIS. BPA will consider and respond to comments received on the Draft EIS in the Final EIS during which affected landowners, concerned citizens, special interest groups, local governments, and any other interested parties are invited to comment on the scope of the proposed EIS. Scoping will help BPA ensure that a full range of issues related to this proposal is addressed in the EIS, and also will identify significant or potentially significant impacts that may result from the proposed project.

BPA proposes to construct a 500-kv transmission line near the community of Kangley in King County, Washington, in 2002. BPA has identified three action alternatives for constructing the transmission line, all of which cross the Cedar River Municipal Watershed. The Cedar River Municipal Watershed is a large natural area in the Cascade Mountains that is used by the City of Seattle to collect approximately two thirds of the potable water for about 1.3 million people in King and Snohomish Counties.

Maps and further information are available from BPA at the address above.

Issued in Portland, Oregon, on March 17, 2000.
Steven G. Hickok,
Acting Administrator and Chief Executive Officer.

[FR Doc. 00-7581 Filed 3-27-00; 8:45 am]

BILLING CODE 6450-01-P